DEPARTMENT OF THE INTERIOR

Office of Surface Mining Reclamation and Enforcement

Notice of Proposed Information Collection for 1029-0027 and 1029-0036

AGENCY: Office of Surface Mining Reclamation and Enforcement, Interior.

ACTION: Notice and request for comments.

SUMMARY: In compliance with the Paperwork Reduction Act of 1995, the Office of Surface Mining Reclamation and Enforcement (OSM) is announcing that the information collection requests for 30 CFR Parts 740 and 780 which relate to surface coal mining and reclamation operations on Federal lands, and Surface mining permit applications—minimum requirements for reclamation and operation plans respectively. These collection requests have been forwarded to the Office of Management and budget (OMB) for review and comment. The information collection requests describe the nature of the information collections and the expected burden and cost.

DATES: OMB has up to 60 days to approve or disapprove the information collections but may respond after 30 days. Therefore, public comments should be submitted to OMB by November 14, 2005, in order to be assured of consideration.

FOR FURTHER INFORMATION CONTACT: To request a copy of either information collection request, explanatory information and related forms, contact John A. Trelease at (202) 208-2783, or electronically to jtreleas@osmre.gov.

ADDRESSES: Comments may be submitted to the Office of Information and Regulatory Affairs, Office of Management and Budget, Department of the Interior Desk Officer, via e-mail at IORA_Docket@omb.eop.gov, or by facsimile to (202) 395-6566. Also, please send a copy of your comments to John A. Trelease, Office of Surface Mining Reclamation and Enforcement, 1951 Constitution Ave, NW., Room 202-SIB, Washington, DC 20240, or electronically to jtreleas@osmre.gov. Please reference 1029-0027 for Part 740, and 1029-0036 for Part 780 in your correspondence.

SUPPLEMENTARY INFORMATION: The Office of Management and Budget (OMB) regulations at 5 CFR part 1320, which implement provisions of the Paperwork Reduction Act of 1995 (Pub. L. 104-13), require that interested members of the public and affected agencies have an opportunity to comment on information collection and recordkeeping activities [see 5 CFR 1320.8(d)]. OSM has submitted two requests to OMB to renew its approval of the collections of information contained in: 30 CFR Part 740, Surface Coal Mining and Reclamation Operations on Federal Lands, and 30 CFR Part 780, Surface Mining Permit Applications—Minimum Requirements for Reclamation and Operation Plans. OSM is requesting a 3-year term of approval for each information collection activity.

An agency may not conduct or sponsor, and a person is not required to respond to, a collection of information unless it displays a currently valid OMB control number. The OMB control numbers for these collections of information are 1029-0027 for Part 740, and 1029-0036 for Part 780.

As required under 5 CFR 1320.8(d), Federal Register notices soliciting comments on these collections of information was published on June 7, 2005 (70 FR 33191). No comments were received. This notice provides the public with an additional 30 days in which to comment on the following information collection activities:

Title: 30 CFR Part 740—General requirements for surface coal mining and reclamation operations on Federal lands.

Frequency of Collection: Once.

OMB Control Number: 1029-0027.

Summary: Section 523 of SMCRA requires that a Federal lands program be established to govern surface coal mining and reclamation operations on Federal lands. The information requested is needed to assist the regulatory authority determine the eligibility of an applicant to conduct surface coal mining operations on Federal lands.

Description of Respondents: Applicants for surface coal mine permits on Federal lands and State regulatory authorities.

Total Annual Responses: 42.

Total Annual Burden Hours for Applicants: 2,602.

Total Annual Burden Hours for State Regulatory Authorities: 800.

Total Annual Burden Hours for All Respondents: 3,402.

Title: 30 CFR Part 780—Surface Mining Permit Applications—Minimum Requirements for Reclamation and Operation Plan.

OMB Control Number: 1029-0036.

Summary: Section 507(b), 508(a), 510(b), 515(b) and (d), and 522 of Public Law 95-87 require applicants to submit operations and reclamation plans for coal mining activities. Information collection is needed to determine whether the plans will achieve the reclamation and environmental protections pursuant to the Surface Mining Control and Reclamation Act. Without this information, Federal and State regulatory authorities cannot review and approve permit application request.

Bureau Form Number: None.

Frequency of Collection: Once.

Description of Respondents: Applicants for surface coal mine permits on Federal land and State regulatory authorities.

Total Annual Responses: 505.

Total Annual Burden Hours for Applicants: 146,376.

Total Annual Burden Hours for State Regulatory Authorities: 88,752.

Total Annual Burden Hours for All Respondents: 235,128.

Total Annual Burden Costs for All Respondents: $2,258,045.

Send comments on the need for the collections of information for the performance of the functions of the agency; the accuracy of the agency's burden estimates; ways to enhance the quality, utility and clarity of the information collections, and ways to minimize the information collection burdens on respondents, such as use of automated means of collections of the information, to the following addresses. Please refer to the appropriate OMB control numbers in all correspondence.

Dated: August 10, 2005.
John R. Craynon,
Chief, Division of Regulatory Support.

[FR Doc. 05-20573 Filed 10-13-05; 8:45 am]

BILLING CODE 4310-05-M